DEPARTMENT OF COMMERCE

International Trade Administration

[A-201-830]

Carbon and Certain Alloy Steel Wire Rod: Extension of Time Limits for the Final Results of Antidumping Duty Administrative Review

AGENCY: Import Administration, International Trade Administration, Department of Commerce.

EFFECTIVE DATE: March 10, 2006.

FOR FURTHER INFORMATION CONTACT: Tipten Troidl or Jolanta Lawska at (202) 482-1767 or (202) 482-8362, respectively; AD/CVD Operations, Office 3, Import Administration, International Trade Administration, U.S. Department of Commerce, 14th Street and Constitution Avenue, NW., Washington, DC 20230.

SUPPLEMENTARY INFORMATION:

Background

On November 12, 2004, the U.S. Department of Commerce (“the Department”) published in the Federal Register a notice of initiation of the administrative review of the antidumping duty order on carbon and certain alloy steel wire rod from Mexico, covering the period from October 1, 2003 to September 30, 2004 (69 FR 64722). On November 7, 2005, we published in the Federal Register our preliminary results. See Preliminary Results of Antidumping Duty Administrative Review: Carbon and Alloy Steel Wire Rod from Mexico, 70 FR 67422. The final results of this review are currently due no later than March 7, 2006.

Extension of Time Limit for Final Results of Review

Section 751(a)(3)(A) of the Tariff Act of 1930, as amended (“the Act”), requires the Department to issue final results within 120 days after the date on which the preliminary determination is published. However, if it is not practicable to complete the final results of review within this time period, section 751(a)(3)(A) of the Act allows the Department to extend that 120- day period to 180 days.

We determine that completion of the final results of this review within the 120-day period is not practicable for the following reasons. This review covers two companies, and to complete our sales and cost analyses for each requires the Department to analyze a significant amount of information pertaining to each company's sales practices and manufacturing costs. Given the complexity of issues in this case, and in accordance with section 751(a)(3)(A) of the Act, we are fully extending the time period for issuing the final results of review until May 8, 2006, which is the next business day after 180 days from publication of the preliminary results of review.

This notice is issued and published in accordance with sections 751(a)(3)(A) and 777(i)(1) of the Act.

Dated: February 23, 2006.
Stephen J. Claeys,
Deputy Assistant Secretary for Import Administration.

[FR Doc. E6-3464 Filed 3-9-06; 8:45 am]

BILLING CODE 3510-DS-S